Title 3—

The President

Proclamation 10712 of March 18, 2024

National Agriculture Day, 2024

By the President of the United States of America

A Proclamation

On National Agriculture Day, we celebrate generations of American farmers, farmworkers, fishers, ranchers, foresters, and all those who work around the clock to put food on our tables and steward our Nation's lands. They represent the best of America—pride in community, love of family, and work ethic and strength that power our economy and help feed the world.

Over the last few decades, the failed trickle-down economic policies of the past have hit rural America especially hard. They have hollowed out communities, essentially telling farmers that the only path forward is to “get big” or “get out.” Food producers, meat processors, and grocery chains have consolidated, undercutting small local businesses and weakening the bargaining power of the farmers and ranchers who supply large corporations with goods. Meanwhile, corporations that sell seeds, fertilizer, and even farm equipment have used their own outsized market power to charge more even as farmers sold their own goods for less. Family farms have struggled, as the promise of keeping a farm in the family is too often slipping out of reach. When family farms go by the wayside, the small businesses, hospitals, and schools that depend on them suffer as well. Across rural America, thousands of young people have had to leave home to find a good-paying job and a fair shot at the American Dream. It is wrong.

I came to office determined to change that. The historic legislation I have signed is creating new income and new ways for new generations of rural Americans to thrive. We are investing in rural America, creating new opportunities for farmers and ranchers nationwide.

The Bipartisan Infrastructure Law is strengthening farm supply chains by rebuilding roads, bridges, railways, ports, water systems, and more. It is bringing high-speed internet to every household in America, connecting rural communities to markets, customers, jobs, health care, education, and opportunity. The Inflation Reduction Act is investing nearly $20 billion to help farmers and ranchers earn a living while also helping to tackle the climate crisis, including adopting climate-smart practices like cover crops, rotational grazing, and nutrient management. It is expanding renewable energy, including homegrown biofuels, which is building a strong bio-economy for jobs of the future. Together, these laws are helping American farmers and ranchers remain strong and competitive in the face of a changing climate—from investing in watershed management and drought and flood protection to wildland fire protection. The Department of Agriculture (USDA) is providing billions of dollars in assistance to farmers who have previously experienced discrimination in their lending programs.

At the same time, my Administration is working across the board to promote competition and level the playing field for small farmers and ranchers. For example, the American Rescue Plan invested $1 billion in independent meat processors to help ease conglomerates' lock on the market and help small- and mid-sized companies grow. The USDA also published a Packers and Stockyards Act final rule, which prohibits discrimination, retaliation, and certain unfair practices in livestock, meat, and poultry markets. The USDA also finalized a rule to increase transparency in the poultry tournament system so that growers have important information about the terms of their agreements. We have also pushed to cut costs for farmers by promoting farmers' “right to repair” their own equipment, without having to send it back to the manufacturer. We are working to expand double cropping insurance so farmers have the financial security they need to bear its risks and boost production.

We are also standing up for the farm and food workers who form the backbone of our Nation's economy. It is simple. Every worker in America deserves fair pay, safe conditions, and the free and fair choice to join a union. We promised to be the most pro-union Administration in history—and we are delivering. The USDA is also investing $45 million into partnerships with workforce development experts to better train agricultural employees. But there is still more to do, like finally providing undocumented farmworkers a pathway to citizenship. Our economy needs them, and they deserve dignity and respect.

It is simple: American agriculture feeds our families and powers our economy. National Agriculture Day is about celebrating the strength and tremendous contributions of our Nation's farmers and ranchers and making sure communities too long left behind have real reason to feel a new sense of hope and pride.

NOW, THEREFORE, I, JOSEPH R. BIDEN JR., President of the United States of America, by virtue of the authority vested in me by the Constitution and the laws of the United States, do hereby proclaim March 19, 2024, as National Agriculture Day. I call upon all Americans to join me in recognizing and reaffirming our commitment to and appreciation for our country's farmers, farmworkers, ranchers, fishers, foresters, and all those who work in the agricultural sector across the Nation.

IN WITNESS WHEREOF, I have hereunto set my hand this eighteenth day of March, in the year of our Lord two thousand twenty-four, and of the Independence of the United States of America the two hundred and forty-eighth.

[FR Doc. 2024-06122

Filed 3-20-24; 8:45 am]

Billing code 3395-F4-P